DEPARTMENT OF HOMELAND SECURITY

U.S. Customs and Border Protection

19 CFR Part 101

[Docket No. USCBP-2011-0031; CBP Dec. 13-2]

Modification of the Port Limits of Green Bay, WI

AGENCY: U.S. Customs and Border Protection; DHS.

ACTION: Final rule.

SUMMARY: This document amends the U.S. Customs and Border Protection (CBP) regulations pertaining to CBP's field organization by expanding and revising the geographical limits of the port of Green Bay, Wisconsin. The port limits will be revised to refer to identifiable roadways and waterways rather than townships and will be extended to include the entire Austin Straubel Airport. The change will make the boundaries more easily identifiable to the public. The change is part of a continuing program to more efficiently utilize CBP's personnel, facilities, and resources, and to provide better service to carriers, importers, and the general public.

DATES: Effective Date: April 1, 2013.

FOR FURTHER INFORMATION CONTACT: Tina Loos, Operations Specialist, Chicago Field Office, Office of Field Operations, by phone at (312) 542-5754 or by email at Tina.M.Loos@dhs.gov.

SUPPLEMENTARY INFORMATION:

I. Background

In a Notice of Proposed Rulemaking (NPRM) published in the Federal Register (76 FR 69688) on November 9, 2011, the Department of Homeland Security, U.S. Customs and Border Protection (CBP) proposed to amend the list of CBP ports of entry at 19 CFR 101.3(b)(1) to extend and revise the limits of the port of Green Bay, Wisconsin. CBP proposed to revise the port limits to refer to identifiable roadways and waterways rather than townships and to extend the port limits to include the entire Austin Straubel Airport.

As explained in the NPRM, the port limits of Green Bay, Wisconsin originally consisted of the corporate limits of Green Bay, Wisconsin, but were expanded in 1958 to include the townships of Ashwaubenon, Allouez, Preble and Howard and the city of De Pere, all in the State of Wisconsin. See Treasury Decision (T.D.) 54597, effective May 27, 1958. CBP has included a map of the current port limits in the docket as “Attachment A: Green Bay (Current).”

CBP proposed to amend the port limits of the port of Green Bay, Wisconsin because the boundaries of the listed townships are not easy to locate, one of the townships identified in T.D. 54597 (the Preble township) no longer exists, and due to an error, a portion of the Austin Straubel Airport is located outside the current port limits. CBP determined that this change would not result in a change in the service that is provided to the public by the port, nor would a change in the staffing or workload at the port be required. A map of the new port limits is included in the docket as “Attachment B: Green Bay (Proposed).”

Interested parties were given until January 9, 2012, to comment on the proposed changes. No comments were received in response to the notice. Accordingly, CBP will adopt the proposal as set forth in the NPRM.

II. Conclusion

CBP is extending and revising the geographical limits of the port of Green Bay, Wisconsin. CBP believes that extending the geographical limits of the port of Green Bay, Wisconsin to include the entire Austin Straubel Airport and by revising the geographical limits to refer to identifiable roadways and waterways rather than townships will enable CBP to more efficiently utilize its personnel, facilities, and resources, and to provide better service to carriers, importers, and the general public. Therefore, the port of entry description of Green Bay, Wisconsin, will be revised as proposed in the NPRM.

III. Port Description of Green Bay, Wisconsin

The expanded and revised port limits of the Green Bay, Wisconsin port of entry, are as follows: Beginning at the point in the Sensiba State Wildlife Area where Lineville Rd. meets the shore of Lake Michigan, proceeding west on Lineville Rd. to the intersection with Westline Rd.; then south on Westline Rd. to the intersection with Glendale Ave.; then west on Glendale Ave. to the intersection with County Line Rd. (County Route U); then south on County Line Rd. to the intersection with Wisconsin State Route 29/32; then southeast on Route 29/32 to the intersection with Riverdale Dr. (County Route J); then southwest on Riverdale Dr. to the intersection with Hillcrest Dr.; then south on Hillcrest Dr. to the intersection with W Mason St. (State Route 54); then southwest on W Mason St. to the intersection with S Pine Tree Rd.; then south on S Pine Tree Rd. to the intersection with Orlando Dr.; then east on Orlando Dr. (which turns into Grant St.) to the intersection with 3rd St.; then north on 3rd St. to Main St. (State Route 32); then east on Main St. across the Fox River onto George St.; then east on George St. to the intersection with S Webster Ave.; then southwest on S Webster Ave. to Chicago St. (County Route G); then southeast on Chicago St. to the intersection with Monroe Rd. (County Route GV); then northeast on Monroe Rd. to the intersection with State Route 172; then east on State Route 172 to the intersection with Interstate 43; then northeast on I-43 to the intersection with Manitowoc Rd.; then southeast on Manitowoc Rd. to the intersection with Eaton Rd. (County Route JJ), then east on Eaton Rd. to the intersection with S Vandenberg Rd. (County Route OO/QQ); then north on S Vandenberg Rd. to the intersection with Humboldt Rd., then northwest on Humboldt Rd. to the intersection with N Northview Rd.; then north on N Northview Rd. to the intersection with Luxemburg Rd.; then west on Luxemburg Rd. to the intersection with Spartan Rd.; then north on Spartan Rd. to the intersection with State Route 54/57; then northeast and north on Route 57 to the intersection with Van Lanen Rd.; then west on Van Lanen to the point where Van Lanen Rd. meets the shore of Lake Michigan.

IV. Authority

This change is made under the authority of 5 U.S.C. 301; 19 U.S.C. 2, 66, and 1624; and section 403 of the Homeland Security Act of 2002, Public Law 107-296, 116 Stat. 2178 (Nov. 25, 2002) (6 U.S.C. 203).

V. Regulatory Requirements

A. Executive Order 12866: Regulatory Planning and Review

This final rule is not a “significant regulatory action” under section 3(f) of Executive Order 12866, as supplemented by Executive Order 13563. The change is intended to revise the geographical boundaries of the Green Bay, Wisconsin, port of entry and make the boundaries more easily identifiable to the public. There are no new costs to the public associated with the rule, and the rule does not otherwise implicate the factors set forth in section 3(f) of Executive Order 12866. Accordingly, this rule has not been submitted to the Office of Management and Budget for review.

B. Regulatory Flexibility Act

The Regulatory Flexibility Act (5 U.S.C. 601 et seq.) requires federal agencies to examine the impact a rule would have on small entities. A small entity may be a small business (defined as any independently owned and operated business not dominant in its field that qualifies as a small business per the Small Business Act), a small not-for-profit organization, or a small governmental jurisdiction (locality with fewer than 50,000 people). This final rule does not directly regulate small entities. The change is part of CBP's continuing program to more efficiently utilize its personnel, facilities, and resources, and to provide better service to carriers, importers, and the general public. To the extent that all entities are able to more efficiently or conveniently access the facilities and resources within the expanded geographical area of the new port limits, this final rule should confer benefits to CBP, carriers, importers, and the general public. Because this final rule does not directly regulate small entities, CBP certifies that this rule will not have a significant economic impact on a substantial number of small entities.

C. Unfunded Mandates Reform Act of 1995

This rule will not result in the expenditure by State, local, and tribal governments, in the aggregate, or by the private sector, of $100 million or more in any one year, and it will not significantly or uniquely affect small governments. Therefore, no actions are necessary under the provisions of the Unfunded Mandates Reform Act of 1995.

D. Executive Order 13132

The rule will not have substantial direct effects on the States, on the relationship between the National Government and the States, or on the distribution of power and responsibilities among the various levels of government. Therefore, in accordance with section 6 of Executive Order 13132, this rule does not have sufficient federalism implications to warrant the preparation of a federalism summary impact statement.

VI. Signing Authority

The signing authority for this document falls under 19 CFR 0.2(a). Accordingly, this final rule is signed by the Secretary of Homeland Security.

Lists of Subjects in 19 CFR Part 101

Customs duties and inspection, Customs ports of entry, Exports, Imports, Organization and functions (Government agencies).

Amendments to Regulations

For the reasons set forth above, part 101, CBP Regulations (19 CFR part 101), is amended as set forth below.

PART 101—GENERAL PROVISIONS

1. The general authority citation for part 101 and the specific authority citation for section 101.3 continue to read as follows:

Authority: 5 U.S.C. 301; 19 U.S.C. 2, 66, 1202 (General Note 3(i), Harmonized Tariff Schedule of the United States), 1623, 1624, 1646a.

Sections 101.3 and 101.4 also issued under 19 U.S.C. 1 and 58b.

* * * * *

§ 101.3 [Amended]

2. The list of ports in § 101.3(b)(1) is amended by removing from the “Limits of Port” column for Green Bay, Wisconsin, the present limits description “Including townships of Ashwaubenon, Allouez, Preble, and Howard, and city of De Pere, T.D. 54597” and adding “CBP Dec. 13-2” in its place.

Dated: February 22, 2013.
Janet Napolitano,
Secretary.

[FR Doc. 2013-04620 Filed 2-27-13; 8:45 am]

BILLING CODE 9111-14-P